DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Generic Clearance for Program Evaluation Data Collections.

OMB Control Number: 0693-0033.

Form Number(s): None.

Type of Request: Regular submission.

Burden Hours: 3,022.

Number of Respondents: 12,000.

Average Hours per Response: Varied dependent upon the individual data collection. Response time could be 2 minutes for a response card or 1 hour for a more structured survey instrument. The average response time is expected to be 30 minutes.

Needs and Uses: In accordance with Executive Order 12862, the National Institute of Standards and Technology (NIST), a non-regulatory agency of the Department of Commerce (DoC), proposes to conduct a number of surveys (quantitative and qualitative) designed to evaluate our current program evaluation data collections by means of, but not limited to, focus groups, reply cards that accompany product distributions, and Web-based surveys and dialogue boxes that offer customers the opportunity to express their views on the programs they are asked to evaluate. NIST will limit it inquires to data collections that solicit strictly voluntary opinions and will not collect information that is required or regulated, Steps will be taken to assure anonymity covered under this request.

Affected Public: Business or other for-profit organizations, not-for-profit institutions, individuals or households, Federal government, State, Local, or Tribal Government.

Frequency: On occasion.

Respondent's Obligation: Voluntary.

OMB Desk Officer: Jasmeet Seehra, (202) 395-3123.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Jasmeet Seehra, OMB Desk Officer, FAX number (202) 395-5167 or via the Internet at Jasmeet_K._Seehra@omb.eop.gov.

Dated: July 22, 2009.
Gwellnar Banks,
Management Analyst, Office of the Chief Information Officer.

[FR Doc. E9-17847 Filed 7-27-09; 8:45 am]

BILLING CODE 3510-13-P